DEPARTMENT OF THE INTERIOR

National Park Service

[NPS-WASO-NAGPRA-NPS0038626; PPWOCRADN0-PCU00RP14.R50000]

Notice of Intended Repatriation: Wesleyan University, Middletown, CT

AGENCY: National Park Service, Interior.

ACTION: Notice.

SUMMARY: In accordance with the Native American Graves Protection and Repatriation Act (NAGPRA), Wesleyan University intends to repatriate certain cultural items that meet the definition of unassociated funerary objects and that have a cultural affiliation with the Indian Tribes or Native Hawaiian organizations in this notice.

DATES: Repatriation of the cultural items in this notice may occur on or after October 3, 2024.

ADDRESSES: Wendi Field Murray, Wesleyan University (Archaeology & Anthropology Collections), 265 Church Street, Exley Science Building, Middletown, CT 06459, telephone (860)-685-2085, email wmurray01@wesleyan.edu.

SUPPLEMENTARY INFORMATION: This notice is published as part of the National Park Service's administrative responsibilities under NAGPRA. The determinations in this notice are the sole responsibility of Wesleyan University and additional information on the determinations in this notice, including the results of consultation, can be found in the summary or related records. The National Park Service is not responsible for the determinations in this notice.

Abstract of Information Available

A total of five cultural items have been jointly requested for repatriation. The five unassociated funerary objects are two stone mortars (1972.103.1; 1971.24.1) and three stone pestles (1971.364.1; 1971.365.1; 1971.367.1). All five objects were taken by Paul Schumacher from San Nicolas Island, CA during the 1870s (likely 1877) while he was employed as an archaeologist for the National Park Service. Schumacher's collecting was prolific in the Channel Islands during the 1870s. The looting of Native American burials figures prominently in the documentation of his work via reports and his personal journals, making it probable that these items are from funerary contexts. They were initially delivered to the Smithsonian Institution, and in 1878, they were included in a large (Smithsonian) transfer of cultural objects originating in the Channel Islands and other parts of California to Wesleyan University's natural history museum. It should also be noted that there was a sixth object (a stone pestle, 1971.446.1) from San Nicolas Island taken by Schumacher and originally included in the 1878 transfer paperwork (as well as a 1971 collections inventory), but was discovered to be missing by Wesleyan collections staff in 1999. It has not yet been found, but for future reference this object has the same provenance and cultural affiliation as the five objects listed above. No cultural affiliation information was included in the records of the taking or the transfer, though their geographical origin and the well-documented cultural, historical, geographical, and linguistic connections between the claimants and the southern Channel Islands indicates a cultural affiliation with the Payómkawichum (Luiseño) Tribal Bands and the Santa Ynez Band of Chumash Indians.

The presence of potentially hazardous substances (i.e., pesticide residues) on these particular objects is unknown. In 2021, Wesleyan University discovered the presence of pesticide residue (arsenic) on one organic object from Samoa that was transferred from the Smithsonian in the 19th century, as well as several taxidermy specimens. This suggests the possibility that other objects in the collection may be contaminated. While pesticides were not typically applied to stone objects due to their inherent resilience to pest damage, the objects from San Nicolas have potentially been intermingling with organic objects in a large ethnographic teaching collection since the 1870s, and possibly with natural history specimens as well. To what extent Wesleyan staff attempted to mitigate cross-contamination when objects were stored or handled is unknown. There is one documented instance of pest fumigation relating to the collections that dates to 1972-1973. This was to treat a silverfish infestation in underground storage rooms that held the museum's objects after it closed. The proposal was for the application of dichlorodiphenyltrichloroethane (DDT) to the floors, the placement of open containers of paradichlorobenzene (PDB) around the room, and the placement of a mildew-retarding insecticide inside the wraps of specimens. The specific contents of the room in which the chemicals were applied, and to what extent they were shielded from them, is unknown.

Determinations

Wesleyan University has determined that:

• The five unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the La Jolla Band of Luiseno Indians, California; Pala Band of Mission Indians; Pauma Band of Luiseno Mission Indians of the Pauma & Yuima Reservation, California; Pechanga Band of Indians (previously listed as Pechanga Band of Luiseno Mission Indians of the Pechanga Reservation, California); Rincon Band of Luiseno Mission Indians of the Rincon Reservation, California; Santa Ynez Band of Chumash Mission Indians of the Santa Ynez Reservation, California; and the Soboba Band of Luiseno Indians, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after October 3, 2024. If competing requests for repatriation are received, Wesleyan University must determine the most appropriate requestor prior to repatriation. Requests for joint repatriation of the cultural items are considered a single request and not competing requests. Wesleyan University is responsible for sending a copy of this notice to the Indian Tribes and Native Hawaiian organizations identified in this notice and to any other consulting parties.

Authority: Native American Graves Protection and Repatriation Act, 25 U.S.C. 3004 and the implementing regulations, 43 CFR 10.9.

Dated: August 26, 2024.
Melanie O'Brien,
Manager, National NAGPRA Program.

[FR Doc. 2024-19683 Filed 8-30-24; 8:45 am]

BILLING CODE 4312-52-P